DEPARTMENT OF HOMELAND SECURITY

Federal Emergency Management Agency

44 CFR Part 65

[Docket No. FEMA-P-7626]

Changes in Flood Elevation Determinations

AGENCY: Federal Emergency Management Agency, Emergency Preparedness and Response Directorate, Department of Homeland Security.

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Pulaski (Case No. 02-06-2217P) | City of Little Rock | June 25, 2003; July 2, 2003; Little Rock Free Press | The Honorable Jim Dailey, Mayor, City of Little Rock, Little Rock City Hall, Room 203, 500 West Markham, Little Rock, AR 72201 | June 13, 2003 | 050181
Illinois:
Cook (Case No. 03-05-0548P) | Unincorporated Areas | July 10, 2003; July 17, 2003; Orland Township Messenger | Mr. John H. Stroger, Jr., President, Board of Commissioners, Cook County, 118 North Clark Street, 5th Floor, Chicago, IL 60602 | October 16, 2003 | 170054
Cook (Case No. 03-05-1844P) | City of Countryside | July 9, 2003; July 16, 2003 The Suburban Life | The Honorable Carl W. Le Gant, Mayor, City of Countryside, City Hall, 5550 East Avenue, Countryside, IL 60525-3689 | July 25, 2003 | 170079
Will (Case No. 03-05-0143P) | Village of Frankfort | April 17, 2003; April 24, 2003; The Daily Southtown | The Honorable Raymond Rossi, Mayor, Village of Frankfort, 432 West Nebraska Street, Frankfort, IL 60423 | March 26, 2003 | 170701
Kane (Case No. 03-05-1473P) | City of Geneva | April 23, 2003; April 30, 2003; Kane County Chronicle | The Honorable Kevin R. Burns, Mayor, City of Geneva, 22 South First Street, Geneva, IL 60134 | July 30, 2003 | 170325
Will (Case No. 02-05-3980P) | Village of Plainfield | April 23, 2003; April 30, 2003; The Enterprise | The Honorable Richard Rock, Mayor, Village of Plainfield, 530 West Lockport Street, Suite 206, Plainfield, IL 60544 | July 30, 2003 | 170771
Will (Case No. 03-05-0130P) | Village of Romeoville | July 23, 2003; July 30, 2003; The Herald News | The Honorable Fred Dewald, Jr., Mayor, Village of Romeoville, Village Hall, 13 Montrose Drive, Romeoville, IL 60446 | October 29, 2003 | 170711
Kane (Case No. 03-05-1474P) | Village of South Elgin | May 19, 2003; May 26, 2003; The Courier News | Mr. James W. Hansen, II, Village President, Village of South Elgin, 10 North Water Street, South Elgin, IL 60177 | April 17, 2003 | 170332
Will (Case No. 02-05-3980P) | Unincorporated Areas | April 23, 2003; April 30, 2003; The Enterprise | Mr. Joseph Mikan, Will County Executive, Will County Office Building, 302 North Chicago Street, Joliet, IL 60432 | July 30, 2003 | 170695
Indiana:
Lake (Case No. 02-05-3080P) | City of Crown Point | May 1, 2003; May 8, 2003; Crown Point Star | The Honorable James D. Metros, Mayor, City of Crown Point, City Hall, 101 North East Street, Crown Point, IN 46307 | April 7, 2003 | 180128
Lake (Case No. 03-05-0072P) | Unincorporated Areas | May 15, 2003; May 22, 2003; Crown Point Star | Mr. Wilbur Cox, Director, Lake County Planning Commission, 2293 North Main Street, Lake County Government Center, Crown Point, IN 46307 | August 21, 2003 | 180126
Kansas:
Johnson (Case No. 03-07-494P) | City of Olathe | May 14, 2003; May 21, 2003; The Olathe News | The Honorable Michael Copeland, Mayor, City of Olathe, 100 West Santa Fe, Olathe, KS 66061 | April 28, 2003 | 200173
Johnson (Case No. 03-07-477P) | City of Overland Park | May 22, 2003; May 29, 2003; The Sun Newspapers | The Honorable Ed Eilert, Mayor, City of Overland Park, City Hall, 8500 Santa Fe Drive, Overland Park, KS 66212 | April 23, 2003 | 200174
Johnson (Case No. 02-07-792P) | City of Overland Park | June 19, 2003; June 26, 2003; The Sun Newspapers | The Honorable Ed Eilert, Mayor, City of Overland Park, City Hall, 8500 Santa Fe Drive, Overland Park, KS 66212 | September 25, 2003 | 200174
Johnson (Case No. 03-07-492P) | City of Prairie Village | June 3, 2003; June 10, 2003; The Legal Record | The Honorable Ronald L. Shaffer, Mayor, City of Prairie Village, 7700 Mission Road, Prairie Village, KS 66208-4230 | April 11, 2003 | 200175
Sumner (Case No. 02-07-555P) | City of Wellington | July 17, 2003; July 24, 2003; Wellington Daily News | The Honorable Richard J. Granger, Mayor, City of Wellington, 317 South Washington, Wellington, KS 67152 | October 23, 2003 | 200349
Louisiana:
St. Charles Parish (Case No. 03-06-127P) | Unincorporated Areas | June 4, 2003; June 11, 2003; St. Charles Herald | Mr. Albert D. Laque, Parish President, St. Charles Parish, P.O. Box 302, Hahnville, LA 70057 | May 2, 2003 | 220160
Maryland: Cecil (Case No. 03-03-041P) | Town of Elkton | June 30, 2003; July 7, 2003; Cecil Whig | The Honorable Joseph L. Fisona, Mayor, Town of Elkton, P.O. Box 157, Municipal Building, 100 Railroad Avenue, Elkton, MD 21922-0157 | June 16, 2003 | 240022
Michigan:
Wayne (Case No. 02-05-3652P) | Township of Canton | July 10, 2003; July 17, 2003; Canton Eagle | Mr. Thomas Yack Township Supervisor, Township of Canton, 1150 South Canton Center, Canton, MI 48188 | June 24, 2003 | 260219
Macomb (Case No. 02-05-1639P) | Township of Macomb | May 13, 2003; May 20, 2003; The Macomb Daily | Mr. John D. Brennan, Township Supervisor, Township of Macomb, 54111 Broughton Road, Macomb, MI 48042 | May 19, 2003 | 260445
Oakland (Case No. 03-05-1456P) | City of Novi | June 12, 2003; June 19, 2003; The Novi News | The Honorable Richard Clark, Mayor, City of Novi, 45175 West 10 Mile Road, Novi, MI 48375 | May 21, 2003 | 260175
Minnesota: Jackson (Case No. 03-05-2556P) | City of Jackson | May 22, 2003; May 29, 2003; Jackson County Pilot | The Honorable Ray Hansen, Mayor, City of Jackson, 80 West Ashley, Jackson, MN 56143 | April 17, 2003 | 270213
Missouri:
Cass (Case No. 02-07-670P) | City of Harrisonville | July 11, 2003; July 18, 2003; Cass County Democrat-Missourian | The Honorable Kevin Wood, Mayor, City of Harrisonville, 300 East Pearl Street, Harrisonville, MO 64701 | October 17, 2003 | 290068
Platte (Case No. 03-07-479P) | City of Kansas City | May 23, 2003; May 30, 2003; Kansas City Star | The Honorable Kay Barnes, Mayor, City of Kansas City, City Hall, 29th Floor, 414 East 12th Street, Kansas City, MO 64106 | August 29, 2003 | 290173
Platte (Case No. 03-07-480P) | City of Riverside | May 23, 2003; May 30, 2003; Kansas City Star | The Honorable Betty Burch, Mayor, City of Riverside, 2950 Northwest Vivion Road, Riverside, MO 64150 | August 29, 2003 | 290296
St. Louis (Case No. 03-07-111P) | City of Town & Country | July 9, 2003; July 16, 2003; St. Louis Post Dispatch | The Honorable David A. Karney, Mayor, City of Town & Country, Municipal Center, 1011 Municipal Center Drive, Town & Country, MO 63131 | October 15, 2003 | 290389
Nebraska: York (Case No. 02-07-661P) | City of York | May 21, 2003; May 28, 2003; York News-Times | The Honorable Greg Adams, Mayor, City of York, P.O. Box 276, York, NE 68467 | August 27, 2003 | 310237
New Mexico:
Bernalillo (Case No. 03-06-200P) | City of Albuquerque | July 8, 2003; July 15, 2003; Albuquerque Journal | The Honorable Martin Chavez, Mayor, City of Albuquerque, P.O. Box 1293, Albuquerque, NM 87103 | June 13, 2003 | 350002
Bernalillo (Case No. 03-06-439P) | City of Albuquerque | June 2, 2003; June 9, 2003; Albuquerque Journal | The Honorable Martin Chavez, Mayor, City of Albuquerque, P.O. Box 1293, Albuquerque, NM 87103 | May 14, 2003 | 350002
Bernalillo, (Case No. 03-06-200P) | Unincorporated Areas | July 8, 2003; July 15, 2003; Albuquerque Journal | The Honorable Tim Cummins, Chairman, Bernalillo County Commission, One Civic Plaza, NW., Albuquerque, NM 87102 | June 13, 2003 | 350001
Bernalillo (Case No. 02-06-1424P) | Unincorporated Areas | July 16, 2003; July 23, 2003; Albuquerque Journal | The Honorable Tom Rutherford, Chairman, Bernalillo County, 2400 Broadway, SE., Albuquerque, NM 87102 | October 22, 2003 | 350001
North Carolina: Wake (Case No. 03-04-133P) | Town of Cary | April 3, 2003; April 10, 2003; The Cary News | Mr. William B. Coleman, Jr., Town Manager, Town of Cary, Town Hall Building A, 316 N. Academy Street, P.O. Box 8005, Cary, NC 27512-8005 | July 10, 2003 | 370238
Ohio:
Butler (Case No. 03-05-1848P) | Unincorporated Areas | July 21, 2003; July 28, 2003; The Journal-News | Mr. Michael A. Fox, President, Butler County Commissioners, Government Services Center, 315 High Street, 6th Floor, Hamilton, OH 45011 | October 27, 2003 | 390037
Warren (Case No. 02-05-3976P) | City of Springboro | April 10, 2003; April 17, 2003; The Star Press | The Honorable John Agenbroad, Mayor, City of Springboro, 320 West Central Avenue, Springboro, OH 45066 | July 17, 2003 | 390564
Oklahoma:
Cleveland (Case No. 03-06-187P) | City of Norman | July 31, 2003; August 7, 2003; The Norman Transcript | The Honorable Ron Henderson, Mayor, City of Norman, 2143 Jackson Drive, Norman, OK 73071 | November 6, 2003 | 400046
Oklahoma (Case No. 02-06-654P) | City of Oklahoma City | June 23, 2003; June 30, 2003; The Daily Oklahoman | The Honorable Kirk Humphreys, Mayor, City of Oklahoma City, 200 North Walker, 3rd Floor, Oklahoma City, OK 73102 | September 29, 2003 | 405378
Tulsa (Case No. 02-06-225P) | City of Tulsa | April 23, 2003; April 30, 2003; Tulsa World | The Honorable Bill LaFortune, Mayor, City of Tulsa, City Hall, 200 Civic Center, Tulsa, OK 74103 | April 14, 2003 | 405381
Tulsa (Case No. 03-06-1535P) | City of Tulsa | June 23, 2003; June 30, 2003; Tulsa World | The Honorable Bill LaFortune, Mayor, City of Tulsa, City Hall, 200 Civic Center, Tulsa, OK 74103 | September 29, 2003 | 405381
Wagoner (Case No. 02-06-1643P) | Unincorporated Areas | April 24, 2003; May 1, 2003; The Wagoner Tribune | The Honorable Allan Farley, Chairman, Wagoner County Board of Commissioners, 307 East Cherokee Street, Wagoner, OK 74467 | April 4, 2003 | 400215
Texas:
Collin (Case No. 02-06-1097P) | City of Allen | May 1, 2003; May 8, 2003; The Allen American | The Honorable Stephen Terrell, Mayor, City of Allen, Allen Civic Plaza, 305 Century Parkway, Allen, TX 75013 | August 6, 2003 | 480131
Denton (Case No. 03-06-181P) | City of Argyle | July 10, 2003; July 17, 2003; The Lake City Sun | The Honorable Yvonne A. Jenkins, Mayor, City of Argyle, 506 North Highway 377, Argyle, TX 76226 | June 13, 2003 | 480775
Tarrant (Case No. 03-06-849P) | City of Arlington | July 9, 2003; July 16, 2003; Arlington Morning News | The Honorable Elzie Odom, Mayor, City of Arlington, 101 West Abram Street, Box 231, Arlington, TX 76004-0231 | June 25, 2003 | 485454
Bexar (Case No. 02-06-2298P) | Unincorporated Areas | June 30, 2003; July 7, 2003; San Antonio Express News | The Honorable Nelson W. Wolff, Judge, Bexar County, Bexar County Courthouse, 100 Dolorosa, Suite 120, San Antonio, TX 78205 | June 6, 2003 | 480035
Dallas (Case No. 02-06-2053P) | City of Carrollton | May 2, 2003; May 9, 2003; Northwest Morning News | The Honorable Mark Stokes, Mayor, City of Carrollton, 1945 E. Jackson Road, Carrollton, TX 75006 | April 3, 2003 | 480167
Dallas (Case No. 03-06-844P) | City of Carrollton | June 25, 2003; July 2, 2003; Carrollton Leader | The Honorable Mark Stokes, Mayor, City of Carrollton, P.O. Box 110535, Carrollton, TX 75006 | October 1, 2003 | 480167
Williamson (Case No. 02-06-1089P) | City of Cedar Park | July 11, 2003; July 18, 2003; The Hill Country News | The Honorable Bob Young, Mayor, City of Cedar Park, 600 North Bell Boulevard, Cedar Park, TX 78613 | October 17, 2003 | 481282
Brazos (Case No. 03-06-102P) | City of College Station | July 24, 2003; July 31, 2003; The Eagle | The Honorable Ron Silvia, Mayor, City of College Station, P.O. Box 9960, College Station, TX 77842 | October 30, 2003 | 480083
Collin (Case No. 02-06-1413P) | Unincorporated Areas | June 25, 2003; July 2, 2003; Plano Star Courier | The Honorable Ron Harris, Collin County Judge, 210 South McDonald Street, McKinney, TX 75069 | October 1, 2003 | 480130
Dallas (Case No. 03-06-844P) | City of Coppell | June 25, 2003; July 2, 2003; Coppell Gazette | The Honorable Doug Stover, Mayor, City of Coppell, 255 Parkway Boulevard, P.O. Box 9478, Coppell, TX 75019 | October 1, 2003 | 480170
Dallas (Case No. 03-06-447P) | City of Dallas | May 1, 2003; May 8, 2003; Dallas Morning News | The Honorable Laura Miller, Mayor, City of Dallas, 1500 Marilla Street, City Hall, Dallas, TX 75201 | April 3, 2003 | 480171
Denton (Case No. 03-06-181P) | City of Denton | July 10, 2003; July 17, 2003; Denton Record Chronicle | The Honorable Euline Brock, Mayor, City of Denton, 215 East McKinney Street, Denton, TX 76201 | June 13, 2003 | 480194
Hidalgo (Case No. 03-06-153P) | City of Edinburg | May 28, 2003; June 4, 2003; Edinburg Daily Review | The Honorable Richard Garcia, Mayor, City of Edinburg, P.O. Box 1079, Edinburg, TX 78450-1079 | September 3, 2003 | 480338
Hidalgo (Case No. 03-06-153P) | Unincorporated Areas | May 28, 2003; June 4, 2003; Edinburg Daily Review | The Honorable Raman Garcia, Judge, Hidalgo County, P.O. Box 1356, Edinburg, TX 78540-1356 | September 3, 2003 | 480334
El Paso (Case No. 03-06-107P) | City of El Paso | May 21, 2003; May 28, 2003; El Paso Times | The Hon. Raymond C. Caballero, Mayor, City of El Paso, Two Civic Center Plaza, El Paso, TX 79901 | May 2, 2003 | 480214
El Paso (Case No. 02-06-1458P) | City of El Paso | June 24, 2003; July 1, 2003; El Paso Times | The Hon. Raymond C. Caballero, Mayor, City of El Paso, Two Civic Center Plaza, El Paso, TX 79901 | June 5, 2003 | 480214
Tarrant (Case No. 03-06-411P) | City of Euless | April 17, 2003; April 24, 2003; Fort Worth Star Telegram | The Honorable Mary Saleh, Mayor, City of Euless, 201 North Ector Drive, Euless, TX 76039-3595 | April 2, 2003 | 480593
Collin (Case No. 02-06-1413P) | Town of Fairview | June 25, 2003; July 2, 2003; Plano Star Courier | The Honorable Don Phillips, Mayor, Town of Fairview, 500 S. Highway 5, Fairview, TX 75069 | October 1, 2003 | 481069
Fort Bend (Case No. 02-06-2301P) | Unincorporated Areas | July 23, 2003; July 30, 2003; Fort Bend Star | The Honorable James C. Adolphus, Judge, Fort Bend County, 301 Jackson Street, Suite 719, Richmond, TX 77469 | October 29, 2003 | 480228
Tarrant (Case No. 02-06-2303P) | City of Fort Worth | July 21, 2003; July 28, 2003; The Star Telegram | The Hon. Michael J. Moncrief, Mayor, City of Fort Worth, City Hall, 1000 Throckmorton Street, Fort Worth, TX 76102-6311 | July 8, 2003 | 480596
Tarrant (Case No. 03-06-448P) | City of Fort Worth | June 30, 2003; July 7, 2003; The Star Telegram | The Hon. Michael J. Moncrief, Mayor, City of Fort Worth, 1000 Throckmorton Street, Fort Worth, TX 76102 | October 6, 2003 | 480596
Tarrant (Case No. 02-06-1714P) | City of Fort Worth | April 17, 2003; April 24, 2003; The Star Telegram | The Hon. Michael J. Moncrief, Mayor, City of Fort Worth, 1000 Throckmorton Street, Fort Worth, TX 76102 | July 24, 2003 | 480596
Collin (Case No. 03-06-043P) | City of Frisco | June 12, 2003; June 19, 2003; Frisco Enterprise | The Honorable Mike Simpson, Mayor, City of Frisco, P.O. Box 1100, Frisco, TX 75034 | May 23, 2003 | 480134
Tarrant (Case No. 02-06-1719P) | City of Grapevine | April 17, 2003; April 24, 2003; The Grapevine Sun | The Honorable William D. Tate, Mayor, City of Grapevine, 200 S. Main Street, P.O. Box 95104, Grapevine, TX 76051 | April 3, 2003 | 480598
Dallas (Case No. 02-06-2315P) | City of Irving | July 10, 2003; July 17, 2003; The Irving Morning News | The Honorable Joe H. Putnam, Mayor, City of Irving, 825 West Irving Boulevard, Irving, Texas 75060 | June 24, 2003 | 480180
Gregg and Harrison (Case No. 02-06-1532P) | City of Longview | June 30, 2003; July 7, 2003; Longview News Journal | The Honorable Murray Moore, Mayor, City of Longview, P.O. Box 1952, Longview, TX 75606 | October 6, 2003 | 480264
Harris (Case No. 02-06-584P) | Unincorporated Areas | May 14, 2003; May 21, 2003; The Houston Chronicle | The Honorable Robert A. Eckels, Judge, Harris County, 1001 Preston, Suite 911, Houston, TX 77002 | April 18, 2003 | 480287
Dallas (Case No. 03-06-1009P) | Town of Highland Park | May 21, 2003; May 28, 2003; Park Cities Morning News | The Hon. William D. White, Jr., Mayor, Town of Highland Park, Town Hall, 4700 Drexel Drive, Highland Park, TX 75205 | April 30, 2003 | 480178
Harris (Case No. 02-06-584P) | City of Houston | May 14, 2003; May 21, 2003; The Houston Chronicle | The Honorable Lee P. Brown, Mayor, City of Houston, P.O. Box 1562, Houston, TX 77251 | April 18, 2003 | 480296
Tarrant (Case No. 02-06-236P) | City of Hurst | April 22, 2003; April 29, 2003; The Star Telegram | The Honorable William D. Souder, Mayor, City of Hurst, 1505 Precinct Line Road, Hurst, TX 76054 | July 29, 2003 | 480601
Hays (Case No. 02-06-2442P) | City of Kyle | April 23, 2003; April 30, 2003; The Kyle Eagle | The Honorable James L. Adkins, Mayor, City of Kyle, 102 Briarwood Circle, Kyle, TX 78640 | April 2, 2003 | 481108
Dallas (Case No. 02-06-2623P) | City of Lancaster | June 12, 2003; June 19, 2003; Lancaster Today | The Honorable Joe Tillotson, Mayor, City of Lancaster, P.O. Box 940, Lancaster, TX 75146 | September 18, 2003 | 480182
Denton (Case No. 03-06-844P) | City of Lewisville | June 25, 2003; July 2, 2003; Lewisville Leader | The Honorable Gene Carey, Mayor, City of Lewisville, P.O. Box 299002, 1197 West Main Street, Lewisville, TX 75029 | October 1, 2003 | 480195
Liberty (Case No. 01-06-1554P) | City of Liberty | May 21, 2003; May 28, 2003; The Vindicator | The Honorable Bruce E. Halstead, Mayor, City of Liberty, 1829 Sam Houston, Liberty, TX 77575 | August 27, 2003 | 480441
Liberty (Case No. 01-06-1554P) | Unincorporated Areas | May 21, 2003; May 28, 2003; The Vindicator | The Honorable Lloyd Kirkham, Judge, Liberty County, 1923 Sam Houston, Suite 201, Liberty, TX 77575 | August 27, 2003 | 480438
Gregg Harrison (Case No. 02-06-1841P) | City of Longview | May 15, 2003; May 22, 2003; Longview News Journal | The Honorable Earl Roberts, Mayor, City of Longview, P.O. Box 1952, Longview, TX 75606 | August 21, 2003 | 480264
Tarrant (Case No. 02-06-1674P) | City of Mansfield | June 12, 2003; June 19, 2003; Mansfield News Mirror | The Honorable David Harry, Mayor, City of Mansfield, No. 2 Brookway Court, Mansfield, TX 76063 | September 18, 2003 | 480606
Dallas (Case No. 03-06-682P) | City of Mesquite | May 22, 2003; May 29, 2003; Mesquite Morning News | The Honorable Mike Anderson, Mayor, City of Mesquite, P.O. Box 850137, Mesquite, TX 75185 | May 2, 2003 | 485490
Brazoria (Case No. 03-06-176P) | City of Pearland | June 25, 2003; July 2, 2003; Pearland Reporter News | The Honorable Thomas Reid, Mayor, City of Pearland, 3519 Liberty Drive, Pearland, TX 77581 | July 11, 2003 | 480077
Fort Bend (Case No. 02-06-2301P) | City of Rosenberg | July 23, 2003; July 30, 2003; The Herald Coaster | The Honorable Joe M Gurecky, Mayor, City of Rosenberg, P.O. Box 32, Rosenberg, TX 77471-0032 | October 29, 2003 | 480232
Williamson (Case No. 03-06-679P) | City of Round Rock | April 17, 2003; April 24, 2003; Round Rock Leader | The Honorable Nyle Maxwell, Mayor, City of Round Rock, 221 East Main Street, Round Rock, TX 78664 | April 2, 2003 | 481048
Tarrant (Case No. 03-06-152P) | Unincorporated Areas | May 21, 2003; May 28, 2003; The Star Telegram | The Honorable Tom Vandergriff, Judge, Tarrant County, 100 East Weatherford Street, Fort Worth, TX 76196 | August 27, 2003 | 480582
Wisconsin: Richland (Case No. 02-05-3964P) | City of Richland Center | June 19, 2003; June 26, 2003; The Richland Observer | The Honorable Rita Kidd, Mayor, City of Richland Center, 450 South Main Street, Richland Center, WI 53581 | May 29, 2003 | 555576

(Catalog of Federal Domestic Assistance No. 83.100, “Flood Insurance.”)

Dated: September 10, 2003.
Anthony S. Lowe,
Mitigation Division Director, Emergency Preparedness and Response Directorate.

[FR Doc. 03-23987 Filed 9-18-03; 8:45 am]

BILLING CODE 6718-04-P